Proclamation 8347 of February 27, 2009

National Consumer Protection Week, 2009

By the President of the United States of America

A Proclamation

Consumer education helps every American who enters the marketplace. When making a purchase, consumers should know their rights and should learn about goods and services before they buy. This knowledge allows consumers to make sound decisions and protects families and individuals from fraud and abuse. Consumer vigilance also prevents problems before they arise. During National Consumer Protection Week, we highlight consumer education efforts to help Americans make wise decisions. Federal, State, and local agencies; private sector organizations; and consumer advocacy groups band together to encourage Americans to learn about the protections the law affords and to take full advantage of the resources available for consumers of every age.

This year’s theme for National Consumer Protection Week, “Nuts & Bolts: Tools for Today’s Economy,” focuses on the basic information consumers need as they face the opportunities and pitfalls of the marketplace. Every day, consumers make tough choices about saving, investing, and spending their hard-earned money. Whether selecting a mortgage payment plan, seeking a credit report, or buying a car, staying well-informed and vigilant can help citizens make prudent choices. A few days, hours, or even minutes of preparatory research can ultimately save time and money.

As part of National Consumer Protection Week, the Federal Trade Commission has organized a coalition of public- and private-sector organizations to provide practical tips on a wide range of topics. These tips are available at www.consumer.gov/ncpw. The website also includes information on home foreclosure, identity theft, and protecting businesses. Working together, consumers, businesses, and Government can strengthen our robust free market for the benefit of all Americans.

NOW, THEREFORE, I, BARACK OBAMA, President of the United States of America, by virtue of the authority vested in me by the Constitution and laws of the United States, do hereby proclaim March 1 through March 7, 2009, as National Consumer Protection Week. I call upon Government officials, industry leaders, and advocates across the Nation to provide our citizens with information about consumer rights, and I encourage all Americans to take a proactive role in strengthening our economy.

IN WITNESS WHEREOF, I have hereunto set my hand this twenty-seventh day of February, in the year of our Lord two thousand nine, and of the Independence of the United States of America the two hundred and thirty-third.

[FR Doc. E9-4819

Filed 3-4-09; 8:45 am]

Billing code 3195-W9-P